INTERNATIONAL TRADE COMMISSION

[Investigation No. 337-TA-884]

Certain Consumer Electronics With Display and Processing Capabilities; Commission Determination Not to Review an Initial Determination Granting Intervenor Status to Google, Inc.

AGENCY: U.S. International Trade Commission.

ACTION: Notice.

SUMMARY: Notice is hereby given that the U.S. International Trade Commission has determined not to review the presiding administrative law judge's (“ALJ”) initial determination (“ID”) (Order No. 6) granting Google Inc.'s (“Google”) motion to intervene in the above-captioned investigation.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 21, 2014, based on a Complaint filed by Enterprise Systems Technologies S.a.r.l. of Luxembourg (“Enterprise”). 79 FR 49537-38 (Aug. 21, 2014). The Complaint alleges violations of section 337 of the Tariff Act of 1930, as amended, 19 U.S.C. 1337, in the importation into the United States, the sale for importation, and the sale within the United States after importation of communications or computing devices and components thereof by reason of infringement of certain claims of U.S. Patent Nos. 5,870,610 (“the '610 patent”); 6,594,366; 6,691,302 (“the '302 patent”); and 7,454,201 (“the '201 patent”). The Complaint further alleges the existence of a domestic industry. The Commission's Notice of Investigation named several respondents, including HTC Corporation of Taoyuan, Taiwan and HTC America, Inc. of Bellevue, Washington (collectively “HTC”); LG Electronics, Inc. of Seoul, Republic of Korea, LG Electronics U.S.A., Inc. of Englewood Cliffs, New Jersey, and LG Electronics MobileComm U.S.A., Inc. of San Diego, California (collectively “LG”); and Samsung Electronics Co., Ltd of Seoul, Republic of Korea, Samsung Electronics America, Inc. of Ridgefield Park, New Jersey, and Samsung Telecommunications America, L.L.C. of Richardson, Texas (collectively “Samsung”). The Office of Unfair Import Investigations was also named as a party to the investigation.

On August 28, 2014, Google moved to intervene in the investigation with respect to the '302, '610, and '201 patents. The motion noted that none of the named respondents opposed Google's proposed intervention. On September 3, 2014, Enterprise filed a response to Google's motion, indicating that it does not oppose the motion given Google's assurance that it will not object to or oppose any discovery sought by Enterprise on the basis of intervenor status and on the condition that Google participate fully in discovery as if it were a named respondent. On September 8, 2014, the Commission investigative attorney filed a response indicating no opposition to Google's motion.

On September 9, 2014, the ALJ issued the subject ID, granting intervenor status to Google pursuant to section 210.19 of the Commission's Rules of Practice and Procedure (19 CFR 210.19). The ALJ found that Google's motion is timely and that Google has an interest in the investigation because Google products and services are identified in the Complaint in connection with the accused devices of HTC, LG, and Samsung. The ALJ also noted that the interests of those respondents will be centered on their own respective accused devices rather than on the particularities of the Android platform or Google's proprietary products and services. The ALJ found, therefore, that denying Google the opportunity to intervene could impair or impede Google's ability to protect its interest which would not be adequately represented by the existing parties. The ALJ further found no evidence that Google's intervention will unduly delay or prejudice the adjudication of the original parties' rights.

No petitions for review of the subject ID were filed.

The Commission has determined not to review the ID.

The authority for the Commission's determination is contained in section 337 of the Tariff Act of 1930, as amended (19 U.S.C. 1337), and in Part 210 of the Commission's Rules of Practice and Procedure (19 CFR part 210).

By order of the Commission.
Issued: October 10, 2014.
Lisa R. Barton,
Secretary to the Commission.

[FR Doc. 2014-24638 Filed 10-16-14; 8:45 am]

BILLING CODE 7020-02-P